BUREAU OF CONSUMER FINANCIAL PROTECTION

[Docket No. CFPB-2022-0038]

Request for Information Regarding Employer-Driven Debt

AGENCY: Bureau of Consumer Financial Protection.

ACTION: Request for information; extension of comment period.

SUMMARY: On June 9, 2022, the Consumer Financial Protection Bureau (Bureau or CFPB) issued a request for information seeking input from the public on debt obligations incurred by consumers in the context of an employment or independent contractor arrangement. The request for information was published in the Federal Register on June 17, 2022, and provided for a comment period that was set to expire on September 7, 2022. To allow interested persons more time to gather the requested information and submit comments, the Bureau has determined that an extension of the comment period until September 23, 2022, is appropriate.

DATES: The end of the comment period for the Request for Information Regarding Employer-Driven Debt published on June 17, 2022 (87 FR 36469), is extended from September 7, 2022, until September 23, 2022.

ADDRESSES: You may submit comments, identified by Docket No. CFPB-2022-0038, by any of the following methods:

• Federal eRulemaking Portal: https://www.regulations.gov. Follow the instructions for submitting comments.

• Email: employer-drivendebt@cfpb.gov. Include Docket No. CFPB-2022-0038 in the subject line of the message.

• Mail/Hand Delivery/Courier: Comment Intake—Employer-Driven Debt RFI, Consumer Financial Protection Bureau, 1700 G Street NW, Washington, DC 20552. Please note that due to circumstances associated with the COVID-19 pandemic, the CFPB discourages the submission of comments by hand delivery, mail, or courier.

Instructions: The CFPB encourages the early submission of comments. All submissions should include document title and docket number. Because paper mail in the Washington, DC area and at the CFPB is subject to delay, commenters are encouraged to submit comments electronically. In general, all comments received will be posted without change to https://www.regulations.gov. In addition, once the CFPB's headquarters reopens, comments will be available for public inspection and copying at 1700 G Street NW, Washington, DC 20552, on official business days between the hours of 10 a.m. and 5 p.m. Eastern Time. At that time, you can make an appointment to inspect the documents by telephoning 202-435-7275.

All submissions in response to this Request for Information (RFI), including attachments and other supporting materials, will become part of the public record and subject to public disclosure. Proprietary information or sensitive personal information, such as account numbers or Social Security numbers, or names of other individuals, should not be included. Submissions will not be edited to remove any identifying or contact information.

FOR FURTHER INFORMATION CONTACT: Emma Oppenheim, Director's Front Office, at (202) 297-7515. If you require this document in an alternative electronic format, please contact CFPB_Accessibility@cfpb.gov.

SUPPLEMENTARY INFORMATION: On June 9, 2022, the Bureau issued a request for information seeking information from the public on how employer-driven debt has impacted consumers. The CFPB is particularly interested in hearing from consumers, worker organizations and labor unions, employers (including employers trying to compete with other employers using employer-driven debt), social services organizations, consumer rights and advocacy organizations, legal aid attorneys, academics and researchers, small businesses, financial institutions, and state and local government officials.

The CFPB welcomes the submission of descriptive information about experiences faced by people participating in the market, as well as quantitative data about employer-driven debt. The CFPB is interested in receiving comments relating to debt incurred to an employer or an associated entity, taken on in pursuit or in the course of employment. Commenters need not answer all or any of the specific questions posed. The CFPB anticipates analyzing this information in the service of better understanding the relationship between labor practices and the market for consumer financial products or services and identifying priority areas for future action.

The Bureau has determined that it is appropriate to extend until September 23, 2022, the comment period on this request for information. This extension will allow interested persons more time to pull together the requested information for submission. The comment period will now close on September 23, 2022.

Paul Hannah,
Senior Counsel and Federal Register Liaison, Consumer Financial Protection Bureau.

[FR Doc. 2022-19016 Filed 9-1-22; 8:45 am]

BILLING CODE 4810-AM-P